DEPARTMENT OF THE INTERIOR

Fish and Wildlife Service

[FWS-R4-ES-2023-0198; FWS-R4-ES-2023-0194; and FWS-R4-ES-2023-0193; FXGO16621010010-245-FF10G13300]

Three Incidental Permit Applications and Proposed Habitat Conservation Plans; Lake, Volusia, and Orange Counties, FL; Reopening of Comment Periods

AGENCY: Fish and Wildlife Service, Interior.

ACTION: Notice of availability; reopening of public comment periods.

SUMMARY: We, the U.S. Fish and Wildlife Service, are reopening the comment periods on notices announcing three incidental take permit applications, three proposed habitat conservation plans, and related documents. We are taking this action because of a disruption in the public's access to regulations.gov as a means of viewing documents and submitting comments when the three notices were initially published. We invite comments from the public and local, State, Tribal, and Federal agencies. If you already submitted a comment, you do not need to resubmit it.

DATES: The comment periods on the three notices, all of which published October 23, 2023 (88 FR 72774, 88 FR 72775, and 88 FR 72776), are reopened. We will accept comments received or postmarked on or before January 8, 2024.

ADDRESSES:

Obtaining Documents: You may obtain copies of documents for review, and view received public comments, at http://www.regulations.gov. Please see the table in SUPPLEMENTARY INFORMATION to ensure that you are look in the desired docket.

Submitting Comments: Please make sure you are commenting on the desired docket. See the table in SUPPLEMENTARY INFORMATION for docket information. You may submit written comments by one of the following methods:

• Online: https://www.regulations.gov. Search for and submit comments on the desired docket.

• U.S. mail: Public Comments Processing, Attn: [insert correct docket number]; U.S. Fish and Wildlife Service, 5275 Leesburg Pike, MS: PRB/3W, Falls Church, VA 22041-3803.

FOR FURTHER INFORMATION CONTACT: Erin Gawera, by telephone at 904-404-2464 or via email at erin_gawera@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), are reopening the comment periods on notices announcing three incidental take permit applications, three proposed habitat conservation plans, and related documents. We are taking this action because of a disruption in the public's access to regulations.gov when the three notices were initially published. If you previously submitted a comment, you need not resubmit it. The three notices for which we are reopening the comment periods are in the table below.

Notice subject | Federal Register citation | Docket No.
Receipt of Incidental Take Permit Application and Proposed Habitat Conservation Plan for the Florida Scrub-Jay and Sand Skink; Lake County, FL; Categorical Exclusion Applicants: Founders Ridge Development, LLC and Founders Ridge Development II, LLC | 88 FR 72774; October 23, 2023 | FWS-R4-ES-2023-0198
Receipt of Incidental Take Permit Application and Proposed Habitat Conservation Plan for the Florida Scrub-Jay; Volusia County, FL; Categorical Exclusion Applicant: Hector Aponte | 88 FR 72775; October 23, 2023 | FWS-R4-ES-2023-0194
Receipt of Incidental Take Permit Application and Proposed Habitat Conservation Plan for the Sand Skink; Orange County, FL; Categorical Exclusion Applicant: Orange County Parks and Recreation Division | 88 FR 72776; October 23, 2023 | FWS-R4-ES-2023-0193

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Robert L. Carey,
Manager, Division of Environmental Review, Florida Ecological Services Field Office, U.S. Fish and Wildlife Service.

[FR Doc. 2023-26977 Filed 12-7-23; 8:45 am]

BILLING CODE 4333-15-P